ENVIRONMENTAL PROTECTION AGENCY

[FRL-8927-5]

National Drinking Water Advisory Council Request for Climate Ready Water Utilities Working Group Nominations

AGENCY: Environmental Protection Agency.

ACTION: Notice.

SUMMARY: The U.S. Environmental Protection Agency (EPA or Agency) is announcing the formation of the Climate Ready Water Utilities Working Group (CRWUWG) of the National Drinking Water Advisory Council, and soliciting all interested persons or organizations to nominate qualified individuals to serve on the working group. For a general description of the working group charge, the criteria for selecting working group members, and the specific directions for submitting working group member nominations, please see the SUPPLEMENTARY INFORMATION section.

DATES: Submit nominations via U.S. mail on or before August 7, 2009.

ADDRESSES: Address all nominations to Lauren Wisniewski, National Drinking Water Advisory Council Climate Ready Water Utilities Working Group, U.S. Environmental Protection Agency, Office of Ground Water and Drinking Water, Water Security Division (Mail Code 4608T), 1200 Pennsylvania Avenue, NW., Washington, DC 20460.

FOR FURTHER INFORMATION CONTACT: E-mail your questions to Lauren Wisniewski, wisniewski.lauren@epa.gov, or call 202-564-2918.

SUPPLEMENTARY INFORMATION: Background: The Agency's National Water Program Strategy: Response to Climate Change (2008) identified the need to provide drinking water and wastewater utilities with easy-to-use resources to assess the risk associated with climate change and to identify potential adaptation strategies. EPA proposes to establish a Climate Ready Water Utilities program that will enable water and wastewater utilities to develop and implement long-range plans that account for climate change impacts. The program recognizes that any comprehensive approach to climate change must include both adaptation and mitigation. It should also engage a broad range of water sector stakeholders. The National Drinking Water Advisory Council (NDWAC), established under the Safe Drinking Water Act, as amended (42 U.S.C. 300f et seq.), provides practical and independent advice, consultation and recommendations to the Agency on the activities, functions and policies related to the implementation of the Safe Drinking Water Act. On May 28, 2009, NDWAC voted on and approved the formation of the Climate Ready Water Utilities Working Group. After this working group completes its charge, it will make recommendations to the full NDWAC. The full NDWAC will, in turn, make appropriate recommendations to the EPA.

Working Group Charge: The charge for the Climate Ready Water Utilities Work Group (CRWUWG) is to evaluate the concept of “Climate Ready Water Utilities” and provide recommendations to the full NDWAC on the development of an effective program for drinking water and wastewater utilities, including recommendations to: (1) Define and develop a baseline understanding of how to use available information to develop climate change adaptation and mitigation strategies, including ways to integrate this information into existing complementary programs such as the Effective Utility Management and Climate Ready Estuaries Program; (2) Identify climate change-related tools, training, and products that address short-term and long-term needs of water and wastewater utility managers, decision makers, and engineers, including ways to integrate these tools and training into existing programs; and (3) Incorporate mechanisms to provide recognition or incentives that facilitate broad adoption of climate change adaptation and mitigation strategies by the water sector into existing EPA Office of Water recognition and awards programs or new recognition programs.

Selection Criteria: The EPA is looking to create a diverse CRWUWG. Potential CRWUWG nominations could include individuals from stakeholder organizations such as wastewater and drinking water utilities, State and local officials, public health officials, environmental organizations, academia, and climate experts. The Agency is looking for a range of utility representation in terms of the size of the population served, geographic location, as well as investor- and publicly-owned and operated facilities. This is not an exhaustive list; it is only intended to provide a framework to consider potential nominees.

Potential nominees should possess the following qualifications: Occupy a senior position within their organization; have broad experience outside their current position; demonstrate experience dealing with public policy issues; have extensive experience with and understanding of water utilities; and be knowledgeable on climate change. CRWUWG members should: Be recognized experts in their fields; be as impartial and objective as possible; collectively represent an array of backgrounds and perspectives within the water sector and related disciplines; and be available to fully participate in the working group.

The schedule remains flexible; however, it is estimated that the first CRWUWG meeting will be convened in the fall of 2009, and subsequent meetings will be conducted over a relatively short time frame, approximately one year. Over the course of this period, CRWUWG members will be asked to attend up to five meetings, participate in conference calls and video-conferencing as necessary, participate in the discussion of key issues at all meetings, and review and finalize the products and outputs of the working group.

Nomination of a Member: Any interested person or organization may nominate qualified individuals for membership to the working group. All nominees should be identified by their name, occupation, position, address, and telephone number. To be considered, all nominations must include a current resume providing the nominee's background, experience and qualifications, in addition to a statement (not to exceed two (2) paragraphs) about their particular expertise and interest in potential climate change impacts on water utilities. Please note that the Agency will not formally acknowledge or respond to nominations. Additional sources may be utilized in the solicitation of nominees.

Dated: June 26, 2009.
Cynthia C. Dougherty,
Director, Office of Ground Water and Drinking Water.

[FR Doc. E9-16006 Filed 7-7-09; 8:45 am]

BILLING CODE 6560-50-P